DEPARTMENT OF COMMERCE

National Oceanic and Atmospheric Administration

Office of Coast Survey; Notice of Solicitation for Hydrographic Services Review Panel

AGENCY: National Ocean Service, National Oceanic and Atmospheric Administration, Department of Commerce.

ACTION: Notice of solicitation for Hydrographic Services Review Panel.

SUMMARY: This notice responds to the Hydrographic Services Improvement Act Amendments of 2002, Public Law 107-372, which requires the Under Secretary of Commerce for Oceans and Atmosphere to solicit nominations for membership on the Hydrographic Services Review Panel. This advisory committee will advise the Under Secretary on matters related to the responsibilities and authorities set forth in section 303 of the Hydrographic Services Improvement Act of 1998 and its amendments, and such other appropriate matters the Under Secretary refers to the Panel for review and advise.

DATES: Résumés should be sent to the address, e-mail or FAX specified and must be received by September 29, 2003.

ADDRESSES: Director, Office of Coast Survey, National Ocean Service, NOAA (N/CS), 1315 East West Highway, Silver Spring, MD, 20910, FAX: 301-713-4019, e-mail: Hydroservices.panel@noaa.gov.

FOR FURTHER INFORMATION CONTACT: Gretchen Imahori, Office of Coast Survey, NOS/NOAA, 301-713-2770, Extension 140, FAX: 301-713-4019, Gretchen.Imahori@noaa.gov.

SUPPLEMENTARY INFORMATION: Under 33 U.S.C. 883a et seq. NOS is responsible for providing nautical charts and related information for safe navigation and other purposes. In fulfilling this responsibility, NOS collects and compiles hydrographic, tidal and current, geodetic and a variety of other data and information. The Hydrographic Services Panel shall advise on topics such as the Office of Coast Survey (OCS) National Survey Plan, technologies relating to operations, research and development, and dissemination of data pertaining to:

(a) Hydrographic surveying and data;

(b) Nautical charting;

(c) Water level measurements;

(d) Current measurements;

(e) Geodetic measurements; and

(f) Geospatial measurements.

The Panel shall consist of 15 voting members appointed by the Under Secretary in accordance with the provisions and prohibitions of Section 105 of the Act. Members will be selected on a clear, standardized basis, in accordance with applicable Department of Commerce guidance. The Director of the Joint Hydrographic Institute and no more than two employees of the National Oceanic and Atmospheric Administration shall serve as nonvoting members of the Panel.

The voting members of the Panel shall be individuals who, by reason of knowledge, experience, or training, are especially qualified in one or more of the disciplines and fields relating to hydrographic surveying, tides, currents, geodetic and geospatial measurements, marine transportation, port administration, vessel pilotage, and coastal and fishery management. The membership shall be fairly balanced in terms of points of view represented and the functions to be performed by the Panel. An individual may not be appointed as a voting member of the Panel if the individual is a full-time officer or employee of the United States. Any voting member of the Panel who is an applicant for, or beneficiary of (as determined by the Administrator), any assistance under the Act shall disclose to the Panel that relationship, and may not vote on any matter pertaining to that assistance. The term of office of a voting member of the Panel shall be 4 years, except that of the original appointees, five shall be appointed for a term of 2 years, five shall be appointed for a term of 3 years, and five shall be appointed for a term of 4 years, as specified by the Administrator at the time of appointment. The members will serve at the discretion of the Administrator and will be subject to ethical standards applicable to special government employees. Any individual appointed to a partial or full term may be reappointed for one additional full term. A voting member may serve after the date of the expiration of the term of office for which appointed until his or her successor has taken office.

The Panel shall select one voting member to serve as the Chair and another voting member to serve as the Vice Chair. The Vice Chair shall act as Chair in the absence or incapacity of the Chair.

Meetings will occur on a biannual basis and, at any other time, at the call of the Chair or upon the request of a majority of the voting members or of the Administrator.

Voting members of the Panel shall receive compensation at a rate established by the Administrator, not to exceed the maximum daily rate payable under section 5376 of title 5, United States Code, when actually engaged in the performance of duties for such Panel and shall be reimbursed for actual and reasonable expenses incurred in the performance of such duties.

Dated: June 30, 2003.
Jamison S. Hawkins,
Deputy Assistant Administrator for Ocean Services and Coastal Zone Management, National Oceanic and Atmospheric Administration.

[FR Doc. 03-18252 Filed 7-22-03; 8:45 am]

BILLING CODE 3510-08-P